DEPARTMENT OF HEALTH AND HUMAN SERVICES

Office of the Secretary

Office of Assistant Secretary for Administration and Management; Statement of Organization, Functions, and Delegations of Authority

Part A, Office of the Secretary, Statement of Organization, Functions and Delegations of Authority for the Department of Health and Human Services (HHS) is being amended as follows: “Chapter AJ, Office of the Assistant Secretary for Administration and Management,” as last amended at 66 FR 55666-55678, dated October 26, 2001. This reorganization is to accurately reflect the realignment of functions within the Office of the Assistant Secretary for Administration and Management (OASAM). The changes are as follows:

I. Under Part A, Chapter AJ, delete in its entirety and replace with the following:

Section AJ.00 Mission. The Office of the Assistant Secretary for Administration and Management (OASAM) performs for the Secretary the administrative management functions (exclusive of financial and information resources management) of the Department. Manages the human resources, equal employment opportunity, acquisition, grants, and general management activities of the Department. Provides leadership and oversight direction to the activities of the Program Support Center. Provides resource management and equal opportunity services to the Office of the Secretary (OS) and is the head of the OS as an Operating Division.

Section AJ.10 Organization. The Office of the Assistant Secretary for Administration and Management is under the direction of the Assistant Secretary for Administration and Management, who reports to the Secretary and consists of the following components.

• Immediate Office of the Assistant Secretary for Administration and Management (AJ).

• SW Complex Security Team (AJ1).

• Office of Competitive Sourcing (AJ2).

• Office of Human Resources (AJA).

• Office of Grants Management and Policy (AJB).

• OS Executive Office (AJC).

• Office of Facilities Management and Policy (AJE).

• Office of Acquisition Management and Policy (AJG).

• Program Support Center (P).

Section AJ.20 Functions

A. Immediate Office of the Assistant Secretary for Administration and Management (AJ). Provides leadership, policy, guidance and supervision, as well as coordinating long and short range planning for the Office of the Assistant Secretary for Administration and Management. Provides leadership and direction for the Program Support Center (P) and the head of the Program Support Center.

B. SW Complex Security Team (AJ1). Provides physical security for employees and visitors and facility protection in the HHS Building and other SW Complex facilities; oversees the OS and Southwest complex occupational safety and health programs; oversees the fire prevention program; manages HHS Building parking facilities and HHS parking in other SW Complex lots; issues and controls employee identification badges; and manages the HHS Building visitor program and special events admittance support.

C. Office of Competitive Sourcing (AJ2). The Office of Competitive Sourcing (OCS) is headed by a Director who reports directly to the Assistant Secretary for Administration and Management. (1) OCS provides Department-wide leadership, centralized oversight and coordination of competitive sourcing activities; (2) develops policy and issues guidelines relating to competitive sourcing; and (3) represents the Department in dealings with OMB, GAO and other Federal agencies in the area of competitive outsourcing.

C. Office of Human Resources (AJA)

Section ADA.00 Mission. The Office of Human Resources (OHR) provides leadership in the planning and development of personnel policies and human resource programs that support and enhance the Department's mission. Provides technical assistance to the Operating Divisions (OPDIVs) in building the capacity to evaluate the effectiveness of their human resource programs and policies. Serves as the Departmental liaison to central management agencies on topics relating to EEO and human resources matters. Provides Department wide leadership for reorganization and delegation of authority, and other management programs.

Section AJA.10 Organization. The Office of Human Resources (OHR), headed by a Deputy Assistant Secretary for Human Resources who reports to the Assistant Secretary for Management and Administration, and consists of the following components:

• Immediate Office (AJA)

• Personnel Programs Group (AJA1)

• Equal Employment Opportunity Programs Group (AJA2)

Section AJA.20 Functions

1. The Immediate Office of Human Resources (AJA), provides leadership to the development and assessment of the Department's human resources programs and policies. In coordination with the Operating Divisions, designs human resource programs that support and enhance the HHS missions. Provides technical assistance to the OPDIVs in building the capacity to evaluate the effectiveness of their human resource programs and policies, including the development of performance standards. On behalf of the Department's Director of Equal Employment Opportunity, adjudicate complaints of discrimination. Serves as Departmental liaison to central management agencies exercising jurisdiction over human resources and EEO matters.

2. Personnel Programs Group (AJA1). Provides leadership to the planning and development of personnel policies and programs that support and enhance the Department's mission. In coordination with the OPDIVs, formulates HHS policies pertaining to employment, compensation, position classification, employee benefits, performance management, employee development, and employee and labor relations. Provides technical assistance to the OPDIVs in the proper application of Federal personnel law, regulations, and policies. Provides strategic advice to the Deputy Assistant Secretary for Human Resources, the Assistant Secretary for Administration and Management, and the Secretary on those initiatives having major workforce implications. Analyzes workforce data and trends to support strategic workforce planning and restructuring efforts, at both the Departmental and OPDIV levels. Promotes and supports OPDIV capacity building efforts, including innovative approaches to personnel program management. Serves as the Department's focal point for liaison on personnel and labor relations issues with the Office of Personnel Management, the General Accounting Office, the Merit Systems Protection Board, and the Federal Labor Relations Authority.

Serves as the principal source of advice on all aspects of Department-wide organizational analysis including: planning for new organizational elements; evaluating current organizational structures for effectiveness; and conducting the review process for reorganization proposals; manages the reorganization process for the Office of the Secretary (OS) requiring the Secretary's signature and the Assistant Secretary for Administration and Management; administers the Department's system for review, approval and documentation of delegations of authority; develops Department-wide policy and provides technical assistance on the use and application of delegations of authority; advises senior officials within the Department of delegations of authority, coordinates review of proposed delegations requiring the Secretary's or other senior officials' approval; analyzes and makes recommendations related to legislative proposals with potential impact upon the Department's organizational structure or managerial procedures; manages the Departmental Standard Administrative Code (SAC) system, providing oversight, advice, and assistance to ensure codes are in accord with the current approved organization; and provides special management review services for selected activities.

3. Equal Employment Opportunity Programs Group (AJA2). Provides leadership to the planning and development of affirmative employment policies and programs that recognize and value the diversity of the Department workforce and promote a work place free of discrimination. Provides technical assistance and enabling tools to the OPDIVs in the design of innovative, effective affirmative employment programs. Keeps top HHS officials apprised of workforce demographics and recommends positive interventions as needed. Prepares, for the Director of Equal Employment Opportunity, final Departmental decisions on the merits of complaints of discrimination, and prepares proposed dispositions of complaints presenting conflicts of interest for OPDIV and STAFFDIV officials. Serves as the Department's focal point for liaison with the Office of Personnel Management, the Equal Employment Opportunity Commission, and the General Accounting Office on issues pertaining to affirmative employment and discrimination complaints.

D. Office of Grants Management and Policy (AJB)

Section AJB.00 Mission. The Office of Grants Management and Policy (OGMP) provides functional management direction in the areas of grants policy, grants management, electronic grants, and grants streamlining. Provides Department-wide leadership in these areas through policy development, oversight and training. Provides Departmental and government-wide leadership on PL106-107 implementation, Electronic Grants, and other HHS-led initiatives. Represents the Department in dealings with OMB, GSA and other Federal agencies and Congress in the areas of mandatory and discretionary grants, and electronic grants. Foster creativity, collaboration, consolidated, and innovation in the administration of grants functions throughout the Department.

Section AJB.10 Organization. The Office of Grants Management and Policy (OGMP), headed by a Director for Grants Management and Policy who reports to the Assistant Secretary for Administration and Management, consists of the following components:

• Immediate Office (AJB)

• Division of Grants Policy (AJB1)

• Division of Grants Oversight and Review (AJB2)

Section AJB.20—Functions

1. Immediate Office of the Director for Grants Management and Policy (AJB). The Immediate Office of the Director for grants management and Policy provides leadership, policy, guidance and supervision, as well as coordinating long and short-range planning to constituent organizations. The office supports the government-wide electronics grants initiative, including the outreach to grantors and grantees efforts, and interface with OMB, Federal CIO Council, and HHS leadership on the http://www.Grants.gov systems. Also, provides technical assistance to the Operating Divisions and evaluates effectiveness of their grant programs, including the development of performance standards.

2. Division of Grants Policy (AJB1). The Division of Grants Policy provides leadership in the area of grants through policy development, oversight and training. The Division is responsible for the following:

a. Formulates Department-wide grants policies governing the management of grants throughout the Department.

b. Provides advice and technical assistance on grants policy to the Department's Operating Divisions.

c. Monitors the adoption of grants policies by the Department's Operating Divisions to ensure consistent policy interpretation and application.

d. Develops, participates in and evaluates grants training programs for Department staff. Establishes and manages training and certification programs for grants management professionals throughout the Department.

e. Researches, analyzes and tests innovative ideas, techniques and policies in the area of grants. Make studies of problems requiring creation of new policies or revision of current policies, including the application of Departmental policies and best practices related to the Department's grant activities; resolves issues arising from implementation of those policies; maintains relationships and associations with grantor and grantee organizations.

f. Serves as the Department's liaison in the area of grants and maintains working relationships with OMB, GSA and other Federal agencies to coordinate and assist in the development of policy.

g. Makes studies of problems requiring creation of new policies or revision of current policies.

h. Formulates Department-wide grant policies governing the award and administration of grant activities. Publishes these in regulations and other directives.

i. Leads government-wide and Departmental design and implementation of PL106-107 streamlining initiatives. Identifies ways to streamline grants processes and implements policies that foster streamlining and other best practices.

3. Division of Grants Oversight and Review (AJB2). The Division of Grants Oversight and review provides leadership in the area of mandatory and discretionary grants through oversight and review. The Division has functional responsibility for reviewing grants for compliance with Department-wide grants policies and grant regulations. In addition, the Division is responsible for oversight of the HHS grants management operations and the following:

a. Manages oversight of the award and administration of mandatory and discretionary grants and other forms of Federal financial assistance through the Department.

b. Monitors the adoption of grant policies as they affect grant management procedures by the Department's Operating and Staff Divisions to ensure consistent implementation and operations.

c. Provides advice and technical assistance to the Department's Operating and Staff Divisions and to the general public on matters relating to the administration of grants and other forms of Federal financial assistance.

d. Conducts special studies of grants management issues to identify and implement improvements in the way the Department awards and administers grants and other forms of Federal financial assistance; and designs and assists in execution of demonstrations, experimentation and tests of innovative approaches to grants management.

e. Develops, analyzes and tests innovative ideas, techniques, and implementations in grants management. Fosters creativity in the administration of grants.

f. Establishes and manages improved grants management information and monitoring systems.

g. Conducts performance measurements of the Department's Grants System and operates the Department-wide grants reporting systems.

h. Provides advice and technical assistance on grants implementation and processes to the Department's Operating Divisions.

i. Oversees the implementation of grants functions throughout the Department.

E. Office of the Secretary (OS) Executive Office (AJC)

The Office of the Secretary Executive Office (OSEO): (1) Works closely with the Office of Budget, Technology, and Finance (OBTF) to provide budget and other financial services to Office of the Secretary Staff Divisions; (2) in conjunction with the OBTF oversees all aspects of budget formulation and execution for the Office of the Assistant Secretary for Administration and Management; (3) maintains funds controls and coordination of billing and accounts related to the Secretary's dining room and the Immediate Office of the Secretary; (4) plans and directs the provision of centralized purchasing and contracting services for administrative supplies, technical, and research requirements for the OS; (5) provides staff assistance and guidance to OS staff on purchasing and contracting related to purchase order, credit card (MACC), etc.; (6) coordinate with PSC contracts sponsored by the OS; and (7) coordinates with the Program Support Center on requests for personnel actions, departure closeout processing, and payroll liaison; as well as other human resources management support activity matters on behalf of the Staff Divisions.

Assists the ASAM in carrying out the delegated authority to establish and maintain equal employment opportunity programs within the Office of the Secretary. The Office is responsible for ensuring that all OS employment policies and actions are based on merit, without regard to race, color, religion, national origin, sex, age, or physical/mental disability. Major functions include: pre-complaint counseling; formal complaint processing; affirmative employment planning and implementation; technical guidance and policy development. The functions of the office also include program efforts which focus on the Federal Women's Program, the Hispanic Employment Program, and the Program for People with Disabilities. Works closely with the Deputy Assistant Secretary for Facilities to develop guidance for the OS on aspects of the HHS annual RENT budget, as it relates to the SW Complex. Coordinates preparation among OPDIVs and STAFFDIVs in the SW Complex RENT budgets, consistent with OMB and GSA guidance. Establishes information and reporting standards for all above listed programs. Collects, assembles, and analyzes required information for mandated reports to Congress, OMB, GSA and other Federal agencies.

F. Office for Facilities Management and Policy (AJE)

Section AJE.00 Mission. The Office for Facilities Management and Policy (OFMP): (1) Plans, oversees and directs facilities master planning, design, programming and construction; (2) oversees and coordinates the following facilities activities: the operations and maintenance of HHS facilities; property management of leased facilities; land and space management; disposal of real property; environmental quality and compliance; facilities energy management; historic preservation; physical security of space occupied by HHS employees; and the requirements contained in the Occupational Safety and Health Act; and (3) and provides administrative and operations support to the Department's Capital Investment Review Board and has oversight responsibilities for multibillion facilities master plan that calls for construction of numerous state-of-the-art laboratories, office buildings and other support facilities.

Section AJE.10 Organization. The Office of Facilities Management and Policy (OFMP) is headed by a Deputy Assistant Secretary, who reports directly to the Assistant Secretary for Administration and Management, and consists of the following components:

• Division of Planning and Construction (AJE1)

• Division of Operations and Maintenance (AJE2)

• Division of Real Property (AJE3)

Section ADE.20 Functions

1. Division of Planning and Construction (AJE1)—The Division of Planning and Construction (DPC): (1) Supports the HHS Capital Investment Review Board; (2) leads programming of facilities projects for the HHS annual budget submission and responds to inquiries from external organizations such as GSA, OMB and Congress; (3) facilitates and oversees construction program implementation from preproject planning through facility activation and it fosters application of construction best practices, energy conservation, workforce training and competencies, and the use of different contract acquisition methods; and develops and oversees implementation of policies such as those for sustainable design and preproject planning.

2. Division of Operations and Maintenance (AJE2)—The Division of Operations and Maintenance (DOM): (1) Oversees HHS and the OPDIVs activities in maintaining and managing capital facility assets and providing for comfort and cleanliness, (2) oversees expenditure levels, facility condition and condition assessments, deferred maintenance amounts and calculations, and computerized maintenance management systems; (3) fosters application of best practices for energy conservation, workforce training and competencies, and acquisition; (4) develops and oversees implementation of policies such as those for building commissioning, design for maintainability; (5) manages the operations and maintenance activities in the Hubert H. Humphrey Building in Washington, D.C.; and (6) establishes, maintains and promulgates HHS policy and guidelines for the SW Complex real property program.

3. Division of Real Property (AJE3)—The Division of Real Property (DRP): (1) Establishes, maintains and promulgates HHS policy for the real property and management programs, serving as the principal source of advice on these Department-wide programs; (2) establishes the HHS real property program, writes guidelines and procedures to acquire and manage owned and leased real property; reviews and as necessary, manages disposal actions; monitors and analyzes utilization of all space; implements the GSA Delegations program; (3) manage facilities programs, which include: Occupational safety and health, environmental quality, physical security, historic preservation, energy conservation and fitness and childcare centers; (4) provides oversight of OPDIV performance, technical assistance and training on a Department-wide basis; (a) reviews OPDIVs compliance with program requirements and sets Departmental standards, as required; (b) interrupt GSA guidelines, facilities related legislation, Executive Orders, applicable regulations, and other guidelines; (c) establishes reporting standards for all facilities related programs; and (d) collects, assembles and analyzes required information for mandated reports to Congress, OMB, GSA and other Federal agencies.

H. Office of Acquisition Management and Policy (AJG)

Section AJG.00 Mission. The Office of Acquisition Management and Policy (OAMP) provides management direction of the acquisition system including logistics and small business policy. Provides Department-wide leadership in these areas through policy development, performance measurement and training. Represents the Department in dealings with OMB, GAO and other Federal agencies and Congress in the areas of procurement, logistics and small business utilization. Fosters creativity and innovation in the administration of these functions throughout the Department.

Section AJG.10 Organization. The Office of Acquisition Management and Policy (OAMP), headed by a Director for Acquisition Management and Policy, who is the Senior Procurement Executive appointed pursuant to 41 U.S.C. 414(3) section 16(3), reports to the Assistant Secretary for Administration and Management, consists of the following components:

• Immediate Office (AJG)

• Division of Acquisition Policy (AJGI)

• Logistics Policy Staff (AJG2)

• Office of Small and Disadvantaged Business Utilization (AJGA)

Section AJG.20 Functions

1. Office of the Director for Acquisition Management and Policy (AJG). The Office of the Director for Acquisition Management and Policy provides leadership, policy, guidance and supervision, as well as coordinating long and short-range planning to constituent organizations. Also, provides technical assistance to the Operating Divisions and evaluates effectiveness of their acquisition, logistics, and small business programs, including the development of performance standards. Manages special departmental procurement initiatives and procurement operations of the Program Support Center.

2. Division of Acquisition Policy (AJGI). The Office of Acquisition Policy provides leadership in the area of acquisition through policy development, performance measurement and training. The office is responsible for the following:

a. Formulates Department-wide acquisition policies governing procurement activities. Publishes these in regulations and manuals. Recommends and participates in development of government-wide acquisition policy.

b. Provides advice and technical assistance on matters related to HHS acquisition programs including those operating under the Federal Acquisition Regulation, the Medicare and Medicaid provisions of Title 42 of the U.S. Code, those under Public Law 93-638 and other special authorities.

c. Manages workforce development issues for the department's acquisition workforce including certification and warranting of contracting officers.

d. Monitors the adoption of acquisition policies by the Department's Operating and Staff Divisions to ensure consistent policy interpretation and application. Provides standards for departmental staff assigned contract management responsibilities.

e. Conducts Performance Measurement of the Department's procurement system to ensure compliance with procurement laws and policies and efficient acquisition of the Department's program needs.

f. Makes studies of problems requiring creation of new policies or revision of current policies, including the application of Departmental management controls and reports related to the Department's procurement activities; resolves issues arising from implementation of those policies; maintains similar relationships and associations with public and private contractor organizations.

h. Serves as the Department's liaison in the area of acquisitions and maintains working relationships with OMB, GSA, GAO, and other Federal agencies to coordinate and assist in the development of policy and to participate in government-wide tests of procurement innovations.

i. Conducts special projects to develop improved mechanisms for Department-wide management and procurement. Researches, analyzes and tests innovative ideas, techniques and policies in the area of acquisition. Establishes and directs ad hoc teams to work on special projects to develop creative approaches to problems in the area of acquisition.

3. Logistics Policy Staff (AJG2). Serves as the Department's focal point and liaison with the Operating and Staff Divisions for policy development, technical assistance, oversight and workforce development in the area of logistics. The Staff is responsible for the following:

a. Formulates Department-wide logistics policies governing the management of personal property throughout the Department.

b. Formulas Department-wide travel policies governing travel activities; publishes travel regulations and manuals; and recommends and participates in development of government-wide travel.

b. Provides advice and technical assistance on logistics activities and policy matters to the Department's Operating Divisions.

c. Monitors the adoption of logistics policies by the Department's Operating Divisions to ensure consistent policy interpretation and application.

d. Oversees the implementation of logistics functions throughout the Department.

e. Develops, participates in and evaluates logistics training programs for Department staff.

f. Researches, analyzes and tests innovative ideas, techniques and policies in the area of logistics.

g. Serves as the Department's liaison in the area of logistics and maintains working relationships with OMB, GAO and other Federal agencies to coordinate and assist in the development of policy.

4. Office of Small and Disadvantaged Business Utilization (AJGA3).

a. Has responsibility within the Department for policy, plans, and oversight of execution of the functions under section 8 and 15 of the Small Business Act as amended and Executive Orders 12073 and 12138, relating to preference programs for small businesses, disadvantaged businesses, HubZones, and women-owned businesses, etc. Under provision of Public Law 95-507, the Director reports directly to the Deputy Secretary with the day-to-day operational support provided by the Office of Acquisition Management and Policy.

b. Acts as the advocate for the Secretary and Deputy Secretary within the Department for matters relating to Sections 8 and 15 of Small Business Act and Executive Orders 12073 and 12138 and represents the Department in dealing with other Federal agencies on those matters.

c. Acts as focal point and advocate for the small business, disadvantaged business, HubZones, and women-owned business firms, etc. in their dealings with the Department.

d. Formulates, recommends and monitors implementation of policies for the Department's small business, Small Business Innovation Research, disadvantaged business, HubZone, veteran, and women-owned business programs and other initiative programs.

e. Coordinates and prepares the Department's goals for assigned programs, recommends Secretarial approval of such goals and subsequent to Secretarial approval, negotiates, establishes and reports on goals for the assigned programs with the cognizant Federal agencies.

f. Encourages the awarding of contracts and subcontracts to small business, disadvantaged business, labor surplus area, and women-owned business firms by providing information and assistance to all of the Department's organizational units.

g. Prepares documentation and reports to the Executive Office of the President, the Congress, Office of Management and Budget, the Small Business Administration, and other agencies, as required.

h. Provides input for coordinated Departmental positions on proposed legislation and Government regulations on matters affecting cognizant socioeconomic programs and maintain liaison with Congress through established Departmental channels.

i. Manages the Department's Small Business Innovation Research Program (SBIR) established under Public Law 97-219 and provides liaison between the Department and the Small Business Administration on SBIR matters.

j. Oversees and monitors the Departmental review and screening of planned procurement by programs and procurement offices to ensure that preference programs are given thorough consideration throughout the decision making process.

II. Continuation of Policy. Except as inconsistent with this reorganization, all statements of policy and interpretations with respect to the Office of the Secretary, the HHS Assistant Secretary for Administration and Management and the Program Support Center heretofore issued and in effect to the date of this reorganization are continued in full force and effect.

III. Delegations of Authority. All delegations and redelegations of authority made to officials and employees of affected organizational components will continue in them or their successors pending further redelegation, provided they are consistent with this reorganization.

IV. Funds, Personnel and Equipment: Transfer of organizations and functions affected by this reorganization shall be accompanied in each instance by direct and support funds, positions, personnel, records, equipment, supplies and other resources.

Dated: June 12, 2003.
Ed Sontag,
Assistant Secretary for Administration and Management.

[FR Doc. 03-15515 Filed 6-18-03; 8:45 am]

BILLING CODE 4150-04-M